DEPARTMENT OF ENERGY

Office of Energy Efficiency and Renewable Energy

State Energy Advisory Board

AGENCY: Department of Energy.

ACTION: Notice of open meeting.

SUMMARY: This notice announces a meeting of the State Energy Advisory Board (STEAB). The Federal Advisory Committee Act (Pub. L. 92-463; 86 Stat. 770), requires that public notice of these meetings be announced in the Federal Register.

DATES: Oct. 18, 2006 from 8 a.m. to 5:30 p.m., Oak Ridge National Laboratory (ORNL) on-site; Oct. 19, 2006 from 8 a.m. to 5:30 p.m., and Oct. 20, 2006 from 8 a.m. to 11:30 a.m.

ADDRESSES: Courtyard by Marriott, The Hotels at Cedar Bluff, 216 Langley Place, Knoxville, TN 37922.

FOR FURTHER INFORMATION CONTACT: Gary Burch, STEAB Designated Federal Officer, Assistant Manager, Office of Intergovernmental Projects & Outreach, Golden Field Office, Energy Efficiency and Renewable Energy (EERE), U.S. Department of Energy, 1617 Cole Boulevard, Golden, CO 80401, Telephone 303/275-4801.

SUPPLEMENTARY INFORMATION: Purpose of the Board: To make recommendations to the Assistant Secretary for Energy Efficiency and Renewable Energy regarding goals and objectives, programmatic and administrative policies, and to otherwise carry out the Board's responsibilities as designated in the State Energy Efficiency Programs Improvement Act of 1990 (Pub. L. 101-440).

Tentative Agenda: Briefings on, and discussions of:

• (Oct. 18, 2006) Tour of the ORNL and Presentations:

—The Electricity/Energy Efficiency Nexus of 2006.

—More-electric transportation.

—Nanomanufacturing-bringing science to energy efficient materials and systems.

—Laboratory R&D functions in the areas of:

○ Building Technologies;

○ Electricity Technologies; and

○ Bio-energy Technologies.

• (Oct. 19-20, 2006) Board Meeting:

—Discussion/response to lab visits.

—Discussion of and drafting the STEAB FY 06 Annual Report.

Public Participation: The meeting is open to the public. Written statements may be filed with the Board either before or after the meeting. Members of the public who wish to make oral statements pertaining to agenda items should contact Gary Burch at the address or telephone number listed above. Requests to make oral presentations must be received five days prior to the meeting; reasonable provision will be made to include the statements in the agenda. The Chair of the Board is empowered to conduct the meeting in a fashion that will facilitate the orderly conduct of business.

Minutes: The minutes of the meeting will be available for public review and copying within 60 days at the Freedom of Information Public Reading Room, 1E-190, Forrestal Building, 1000 Independence Avenue, SW., Washington, DC, between 9 a.m. and 4 p.m., Monday through Friday, except Federal holidays.

Issued at Washington, DC, on September 11, 2006
Rachel Samuel,
Deputy Advisory Committee Management Officer.

[FR Doc. E6-15233 Filed 9-13-06; 8:45 am]

BILLING CODE 6450-01-P